DEPARTMENT OF HEALTH AND HUMAN SERVICES

Administration for Children and Families

Proposed Information Collection Activity; Comment Request

Title: Childhood & Family Experiences Study.

OMB No.: New Collection.

Description: The Administration for Children and Families (ACF), U.S. Department of Health and Human Services (HHS) is proposing data collection activities as part of a project to understand how public programs can better serve low-income families. The Childhood & Family Experiences study will examine the perspectives and lived experiences of children and families living in poverty. This qualitative study intends to use this information to increase understanding of the lives of children in poverty and their families in order to improve how human services programs can help families achieve self-sufficiency.

The information collection activities to be submitted in the package include:

(1) Adult interviews will collect information about household income and finances, conversations parents have with their children about finances, and their experiences, if applicable, receiving public benefits.

(2) Adolescent interviews will collect information about adolescents' understanding of their family's economic circumstances, how they communicate with their parents about them, and how they feel about these circumstances, including public benefits, if applicable.

(3) Child interviews will collect information about children's understanding of their family's economic circumstances, how they communicate with their parents about them, and how they feel about these circumstances, including public benefits, if applicable.

(4) A phone screener will be used with prospective families to assess their eligibility for the study and, for those who are eligible, provide them with additional materials about the study, including any risks, to assess their interest in participating.

Respondents: Children and their parents who are living in poverty.

Annual Burden Estimates
Instrument | Total number of respondents | Annual number of respondents | Number of responses per respondent | Average burden hours per response | Annual burden hours
Adult Interview Guide | 45 | 15 | 1 | 1.5 | 23
Adolescent Interview Guide | 20 | 7 | 1 | .875 | 6
Child Interview Guide | 30 | 10 | 1 | .50 | 5
Phone Screener for Prospective Families | 120 | 40 | 1 | .50 | 20

Estimated Total Annual Burden Hours: 54.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2018-00993 Filed 1-19-18; 8:45 am]

BILLING CODE 4184-09-P